ENVIRONMENTAL PROTECTION AGENCY

40 CFR Part 52

[EPA-R07-OAR-2015-0358; FRL-9928-90-Region-7]

Approval and Promulgation of Air Quality Implementation Plans; Iowa; Grain Vacuuming Best Management Practices (BMPs) and Rescission Rules

AGENCY: Environmental Protection Agency (EPA).

ACTION: Direct final rule.

SUMMARY: The Environmental Protection Agency (EPA) is taking direct final action to approve revisions to the State Implementation Plan (SIP) for the State of Iowa to amend Best Management Practices (BMPs) for grain vacuuming operations at Group 1 grain elevators. Additional revisions to the SIP include revised definitions, revised requirements for Department forms, and rescinding rule requirements and references for conditional permits.

DATES: This direct final rule will be effective August 10, 2015, without further notice, unless EPA receives adverse comment by July 13, 2015. If EPA receives adverse comment, we will publish a timely withdrawal of the direct final rule in the Federal Register informing the public that the rule will not take effect.

ADDRESSES: Submit your comments, identified by Docket ID No. EPA-R07-OAR-2015-0358, by one of the following methods:

1. www.regulations.gov. Follow the on-line instructions for submitting comments.

2. Email: Hamilton.heather@epa.gov

3. Mail or Hand Delivery: Heather Hamilton, Environmental Protection Agency, Air Planning and Development Branch, 11201 Renner Boulevard, Lenexa, Kansas 66219.

Instructions: Direct your comments to Docket ID No. EPA-R07-OAR-2015-0358. EPA's policy is that all comments received will be included in the public docket without change and may be made available online at www.regulations.gov, including any personal information provided, unless the comment includes information claimed to be Confidential Business Information (CBI) or other information whose disclosure is restricted by statute. Do not submit through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, i.e., CBI or other information whose disclosure is restricted by statute. Certain other material, such as copyrighted material, will be publicly available only in hard copy form. Publicly available docket materials are available either electronically in www.regulations.gov or in hard copy at the Environmental Protection Agency, Air Planning and Development Branch, 11201 Renner Boulevard, Lenexa, Kansas 66219. The Regional Office's official hours of business are Monday through Friday, 8:00 a.m. to 4:30 p.m. excluding legal holidays. The interested persons wanting to examine these documents should make an appointment with the office at least 24 hours in advance.

FOR FURTHER INFORMATION CONTACT: Heather Hamilton, Environmental Protection Agency, Air Planning and Development Branch, 11201 Renner Boulevard, Lenexa, Kansas 66219 at 913-551-7039, or by email at Hamilton.heather@epa.gov.

SUPPLEMENTARY INFORMATION: Throughout this document “we,” “us,” or “our” refer to EPA. This section provides additional information by addressing the following:

I. What is being addressed in this document?

II. Have the requirements for approval of a SIP revision been met?

III. What action is EPA taking?

IV. Statutory and Executive Order Reviews

I. What is being addressed in this document?

The State of Iowa requested EPA approval of revisions to the SIP to amend Best Management Practices (BMPs) for grain vacuuming operations at Group 1 grain elevators. Additional revisions to the SIP include revised definitions, revised requirements for Department forms, and rescinding rule requirements and references for conditional permits.

These revisions were submitted in two separate requests. The amendment to the BMPs was effective on September 10, 2014, and received by EPA on November 20, 2014. The second request for additional revisions was effective on April 22, 2015, and received by EPA on May 4, 2015. Details with regard both submittals are included in the technical support document which is part of this docket.

II. Have the requirements for approval of a SIP revision been met?

The state submission has met the public notice requirements for SIP submissions in accordance with 40 CFR 51.102. The submission also satisfied the completeness criteria of 40 CFR part 51, appendix V.

III. What action is EPA taking?

EPA is taking direct final action to approve revisions to State of Iowa State Implementation Plan (SIP). Chapter 22, “Controlling Pollution,” is amended to revise the Best Management Practices (BMPs) for Group 1 grain elevators to include grain vacuuming operations. Group 1 grain elevators are country grain elevators, country grain terminal elevators, or grain terminal elevators with the potential to emit less than 15 tons of PM10 per year. Existing Group 1 facilities are those that commenced construction or reconstruction before February 6, 2008; new facilities are those that commenced construction after February 6, 2008. Revised BMPs were included with the SIP submission.

Additional revisions made to the Iowa SIP include revising the definition of volatile organic compounds with the most recent Federally-approved date; removing all references to conditional permits throughout the SIP, and rescinding the air quality forms section.

Conditional permits were added to the Iowa Code in the 1970s to facilitate electric utility rate setting. The Iowa Utilities Board changed the rate setting requirements so that conditional permits were not needed. There is no record of issuing a conditional permit to an electric facility; therefore, references to conditional permits are being removed with this action.

References to obsolete and duplicative air quality forms are being removed from the SIP.

We are publishing this direct final rule without a prior proposed rule because we view this as a noncontroversial action and anticipate no adverse comment. The revised BMPs were developed through a stakeholder workgroup that was jointly organized by IDNR, and grain elevator operators and grain vacuum vendors. One comment was received during the public comment period in support of the revised BMPs. The remaining revisions are largely administrative, and consistent with Federal regulations. However, in the “Proposed Rules” section of this Federal Register, we are publishing a separate document that will serve as the proposed rule to approve the SIP revisions. If adverse comments are received on this direct final rule we will not institute a second comment period on this action. Any parties interested in commenting must do so at this time. For further information about commenting on this rule, see the ADDRESSES section of this document.

IV. Statutory and Executive Order Reviews

In this rule, EPA is finalizing regulatory text that includes incorporation by reference. In accordance with requirements of 1 CFR 51.5, EPA is finalizing the incorporation by reference of Iowa Regulations in chapters 20, 22, 31, and 33 described in the direct final amendments to 40 CFR part 52 set forth below. EPA has made, and will continue to make, these documents generally available electronically through www.regulations.gov and/or in hard copy at the appropriate EPA office (see the ADDRESSES section of this preamble for more information).

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 10, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 28, 2015.
Mark Hague,
Acting Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart Q—Iowa

2. In § 52.820(c), the table is amended by revising the entries for “567-20.2”, “567-20.3”, “567-22.1”, “567-22.2”, “567-22.3”, “567-22.10”, “567-31.20”, and “567-33.3” to read as follows:

§ 52.820 Identification of plan.

* * * * *

(c) * * *

EPA-Approved Iowa Regulations
Iowa citation | Title | State effective date | EPA approval date | Explanation
Iowa Department of Natural Resources Environmental Protection Commission (567)
Chapter 20—Scope of Title-Definitions-Forms-Rule of Practice
* * * * * * *
567-20.2 | Definitions | 4/22/15 | 6/11/15 and [Insert Federal Register citation] |
567-20.3 | Air Quality Forms Generally | 4/22/15 | 6/11/15 and [Insert Federal Register citation] |
* * * * * * *
Chapter 22—Controlling Pollution
567-22.1 | Permits required for New or Existing Stationary Source | 4/22/15 | 6/11/15 and [Insert Federal Register citation] |
567-22.2 | Processing Permit Applications | 4/22/15 | 6/11/15 and [Insert Federal Register citation] |
567-22.3 | Issuing Permits | 4/22/15 | 6/11/15 and [Insert Federal Register citation] |
* * * * * * *
567-22.10 | Permitting Requirements for Country Grain Elevators, Country Grain Terminal Elevators, Grain Terminal Elevators and Feed Mill Equipment | 9/10/14 | 6/11/15 and [Insert Federal Register citation] |
* * * * * * *
Chapter 31—Nonattainment Areas
* * * * * * *
567-31.20 | Special Requirements for Nonattainment Areas Designated Before May 18, 1998. (Originally Adopted in 567-22.5) | 4/22/15 | 6/11/15 and [Insert Federal Register citation] |
Chapter 33—Special Regulations and Construction Permit Requirements for Major Stationary Sources—Prevention of Significant Deterioration (PSD) of Air Quality
* * * * * * *
567-33.3 | Special Construction Permit Requirements for Major Stationary Sources in Areas Designated Attainment or Unclassified (PSD) | 4/22/14 | 6/11/15 and [Insert Federal Register citation] |
* * * * * * *

* * * * *

[FR Doc. 2015-14089 Filed 6-10-15; 8:45 am]

BILLING CODE 6560-50-P